DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the 'Nature of Application” portion of the table below as follows: 1—Motor vehicle, 2—Rail freight, 3—Cargo vessel, 4—Cargo aircraft only, 5—Passenger-carrying aircraft.

DATES: Comments must be received on or before February 23, 2009.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC or at http://dms.dot.gov.

This notice of receipt of applications for special permit is published in accordance with Part 107 of the Federal hazardous materials transportation law (49 U.S.C. 5117(b); 49 CFR 1.53(b)).

Issued in Washington, DC, on January 12, 2009.
Delmer F. Billings,
Director, Office of Hazardous Materials, Special Permits and Approvals.

New Special Permits
Application No. | Docket No. | Applicant | Regulation(s) affected | Nature of special permits thereof
14796-N |  | Chammas Cutters Inc., Houston, TX | 49 CFR 173.228 | To authorize the transportation in commerce of non-DOT specification cylinders containing Bromine trifluoride. (modes 1, 2, 3, 4, 5)
14797-N |  | Department of Energy, Washington, DC | 49 CFR 173.416 and 173.417 | To authorize the continued use of DOT 6M packages for the transportation in commerce of radioactive materials. (mode 1)
14798-N |  | Cymaco NV | 49 CFR 173.302a(b) and 180.205 | To authorize the ultrasonic examination of certain DOT specification cylinders in lieu of the specified internal visual examination and hydrostatic pressure test and to allow the plus marking without determining the elastic expansion by the water jacket method. (modes 1, 2, 3, 4, 5)
14799-N |  | Takata-Petri CCI | 49 CFR 173.30 1(a) and 173. 302a | To authorize the manufacture, marking, sale and use of non-DOT specification cylinders similar to a OT 39 cylinder for use as components of safety systems. (modes 1, 2, 3, 4)
14801-N |  | CVS Transportation, L.L.C., Woon-socket, RI | 49 CFR 171.8 Materials of Trade | To authorize the transportation in commerce of certain hazardous materials as Materials of Trade when transported by a dedicated contract carrier and meet all the provisions of 49 CFR 173.6. (mode 1)
14802-N |  | Sporting Arms and Ammunition Manufacturers' Institute, Inc. Newtown, CT | 49 CFR 173.6 | To authorize the transportation in commerce of certain Division 1.4S explosives under the Materials of Trade exception in 49 CFR 173.6. (mode 1)

[FR Doc. E9-1176 Filed 1-22-09; 8:45 am]

BILLING CODE 4909-60-M